DEPARTMENT OF TRANSPORTATION

Federal Aviation Administration

Public Notice for Intent To Release Airport Property

AGENCY: Federal Aviation Administration (FAA), DOT.

ACTION: Notice of intent to rule on request to release airport property; Nome Airport (OME), Nome, Alaska.

SUMMARY: The FAA proposes to rule and invites public comment on the release of land at the Nome Airport, Nome, Alaska.

DATES: Comments must be received on or before September 27, 2018.

ADDRESSES: Documents are available for review by appointment at the FAA Anchorage Airports Regional Office, Molly Lamrouex, Compliance Manager, 222 W 7th Avenue, Anchorage, AK. Telephone: (907) 271-5439/Fax: (907) 271-2851 and the State of Alaska Department of Transportation and Public Facilities, Fairbanks Office, 2301 Peger Road, Fairbanks, AK. Telephone: (907) 451-5226.

Written comments on the Sponsor's request must be delivered or mailed to: Molly Lamrouex, Compliance Manager, Federal Aviation Administration, Airports Anchorage Regional Office, 222 W 7th Avenue, Anchorage, AK 99513, Telephone Number: (907) 271-5439/FAX Number: (907) 271-2851.

FOR FURTHER INFORMATION CONTACT: Molly Lamrouex, Compliance Manager, Federal Aviation Administration, Alaskan Region Airports District Office, 222 W 7th Avenue, Anchorage, AK 99513. Telephone Number: (907) 271-5439/FAX Number: (907) 271-2851.

SUPPLEMENTARY INFORMATION: The FAA invites public comment on the request to release approximately 2.15 acres of airport property (lots 2 and 2B) at the Nome Airport (OME) under the provisions of 49 U.S.C. 47107(h)(2). The State of Alaska Department of Transportation has requested from the FAA that approximately 2.15 acres of airport property south of the river be released for sale to the City of Nome for utilities infrastructure needs. The FAA has determined that the release of the property will not impact future aviation needs at the airport. The FAA may approve the request, in whole or in part, no sooner than 30 days after the publication of this notice.

The disposition of proceeds from the sale of the airport property will be in accordance with FAA's Policy and Procedures Concerning the Use of Airport Revenue, published in the Federal Register on February 16, 1999 (64 FR 7696).

Issued in Anchorage, Alaska, on August 22, 2018.
Patrick Zettler,
Acting Director, Airports Division, FAA, Alaskan Region.

[FR Doc. 2018-18642 Filed 8-27-18; 8:45 am]

BILLING CODE 4910-13-P